DEPARTMENT OF LABOR

Mine Safety and Health Administration

30 CFR Parts 70, 71, 72, 75, and 90

RIN 1219-AB64

Lowering Miners' Exposure to Respirable Coal Mine Dust, Including Continuous Personal Dust Monitors

AGENCY: Mine Safety and Health Administration, Labor.

ACTION: Proposed rule; rescheduling of public hearings; correction.

SUMMARY: The Mine Safety and Health Administration (MSHA) is rescheduling the dates of two public hearings and announcing the date and location of an additional public hearing on the proposed rule addressing Lowering Miners' Exposure to Respirable Coal Mine Dust, Including Continuous Personal Dust Monitors. This notice also corrects one error in the preamble to the proposed rule. On November 15, 2010, MSHA published the dates and locations of six public hearings to be held on the proposed rule.

MSHA published the proposed rule on October 19, 2010; it is available on MSHA's Web site at http://www.msha.gov/REGS/FEDREG/PROPOSED/2010PROP/2010-25249.pdf. The proposed rule would revise the Agency's existing standards on miners' occupational exposure to respirable coal mine dust and lower miners' exposure to respirable coal mine dust.

DATES: The public hearing dates and locations are listed in the SUPPLEMENTARY INFORMATION section of this document.

Post-hearing comments must be received by midnight Eastern Standard Saving Time on February 28, 2011.

ADDRESSES: Comments must be identified with “RIN 1219-AB64” and may be sent by any of the following methods:

(1) Federal e-Rulemaking Portal: http://www.regulations.gov. Follow the instructions for submitting comments.

(2) Electronic mail: zzMSHA-comments@dol.gov. Include “RIN 1219-AB64” in the subject line of the message.

(3) Facsimile: 202-693-9441. Include “RIN 1219-AB64” in the subject line of the message.

(4) Regular Mail: MSHA, Office of Standards, Regulations, and Variances, 1100 Wilson Boulevard, Room 2350, Arlington, Virginia 22209-3939.

(5) Hand Delivery or Courier: MSHA, Office of Standards, Regulations, and Variances, 1100 Wilson Boulevard, Room 2350, Arlington, Virginia. Sign in at the receptionist's desk on the 21st floor.

MSHA will post all comments on the Internet without change, including any personal information provided. Comments can be accessed electronically at http://www.msha.gov under the “Rules & Regs” link. Comments may also be reviewed in person at the Office of Standards, Regulations, and Variances, 1100 Wilson Boulevard, Room 2350, Arlington, Virginia. Sign in at the receptionist's desk on the 21st floor.

MSHA maintains a list that enables subscribers to receive e-mail notification when the Agency publishes rulemaking documents in the Federal Register. To subscribe, go to http://www.msha.gov/subscriptions/subscribe.aspx.

FOR FURTHER INFORMATION CONTACT: Patricia W. Silvey, Director, Office of Standards, Regulations, and Variances, MSHA, at Silvey.Patricia@dol.gov (E-mail), 202-693-9440 (Voice), or 202-693-9441 (Fax).

SUPPLEMENTARY INFORMATION:

I. Public Hearings

On November 15, 2010, MSHA announced that it would hold six public hearings on the proposed rule (75 FR 69617). Due to a scheduling conflict and in response to requests from the public, to provide maximum opportunity for public participation in this rulemaking, MSHA is rescheduling two public hearings and adding an additional public hearing. The dates of public hearings that were scheduled in Washington, PA, and Arlington, VA, are changed to February 8, 2011, and February 15, 2011, respectively. The locations of these two hearings remain the same. MSHA will hold an additional public hearing on February 10, 2011, in Prestonsburg, Kentucky.

MSHA will accept post-hearing written comments and other appropriate information for the record from any interested party, including those not presenting oral statements. Comments must be received by midnight Eastern Standard Saving Time on February 28, 2011. For the convenience of interested parties, the chart below includes the dates and locations of all seven public hearings:

Date | Location | Contact No.
December 7, 2010 | National Mine Health and Safety Academy, 1301 Airport Road, Beaver, WV 25813 | 304-256-3201
January 11, 2011 | Marriott Evansville Airport, 7101 Highway, 41 North Evansville, IN 47725 | 812-867-7999
January 13, 2011 | Sheraton Birmingham, 2101 Richard Arrington Jr., Blvd., North Birmingham, AL 35203 | 205-324-5000
January 25, 2011 | Marriott Salt Lake City, 75 S West Temple, Salt Lake City, UT 84101 | 801-531-0800
February 8, 2011 | The George Washington Hotel, 60 South Main Street, Washington, PA 15301 | 724-225-3200
February 10, 2011 | Jenny Wiley State Resort Park, Wilkinson/Stumbo Conference Center, 75 Theatre Court, Prestonsburg, KY 41653 | 606-889-1790
February 15, 2011 | Mine Safety and Health Administration, 25th Floor Conference Room, 1100 Wilson Blvd., Arlington, VA 22209 | 202-693-9440

II. Correction

MSHA published the proposed rule on October 19, 2010 (75 FR 64412); it is available on MSHA's Web site at http://www.msha.gov/REGS/FEDREG/PROPOSED/2010PROP/2010-25249.pdf. The following error in the preamble to the proposed rule is corrected to read as follows:

1. On page 64421, third column, first line, “mg³” should read “m³”.

Dated: November 24, 2010.
Joseph A. Main,
Assistant Secretary of Labor for Mine Safety and Health.

[FR Doc. 2010-30099 Filed 11-29-10; 8:45 am]

BILLING CODE 4510-43-P